DEPARTMENT OF TRANSPORTATION

Global Positioning System Adjacent Band Compatibility Assessment Workshop IV

AGENCY: Office of the Assistant Secretary for Research and Technology (OST-R), Department of Transportation.

ACTION: Notice of meeting.

SUMMARY: The purpose of this notice is to inform the public that the U.S. Department of Transportation will host a fourth workshop on the Global Positioning System (GPS) Adjacent Band Compatibility Assessment effort. Notice of the availability of the Draft Test Plan for the U.S. Department of Transportation GPS Adjacent Band Compatibility Assessment effort was issued in the Federal Register on September 9, 2015 https://www.federalregister.gov/articles/2015/09/09/2015-22634/draft-test-plan-to-obtain-interference-tolerance-masks-for-gnss-receivers-in-the-11-radiofrequency. The public comment period closes on October 9, 2015.

The purpose of this workshop is to provide an opportunity to discuss the draft test plan and to address questions prior to the close of the public comment period. Please note that we will not be accepting written comments at this meeting. If you would like to file a comment during the comment period, please follow the directions contained in the September 9th Notice.This workshop is open to the general public by registration only. For those who would like to attend the workshop, we request that you register no later than September 25, 2015. Please use the following link to register: https://volpecenterevents.webex.com/volpecenterevents/onstage/g.php?d=662541655&t=a.

You must include:

• Name

• Organization

• Telephone number

• Mailing and email addresses

• Attendance method (WebEx or on site)

• Country of citizenship

The U.S. Department of Transportation is committed to providing equal access to this workshop for all participants. If you need alternative formats or services because of a disability, please contact Stephen Mackey (contact information listed below) with your request by close of business September 25, 2015.

DATES: Date/Time: October 2, 2015 10:00 a.m.-4:00 p.m. (Eastern Daylight Time).

Location: RTCA NBAA/Colson Room, 1150 18th ST NW., Suite 910, Washington, DC 20036.

Several days before the workshop, an email containing the agenda, dial-in, and WebEx information will be provided to registrants.

FOR FURTHER INFORMATION CONTACT: Stephen M. Mackey, U.S. Department of Transportation, John A. Volpe National Transportation Systems Center, V-345, 55 Broadway, Cambridge, MA 02142, Stephen.Mackey@dot.gov, 617-494-2753.

Issued in Washington, DC, on September 17, 2015.
Gregory D. Winfree,
Assistant Secretary for Research and Technology.

[FR Doc. 2015-24415 Filed 9-24-15; 8:45 am]

BILLING CODE 4910-9X-P